DEPARTMENT OF THE INTERIOR

Bureau of Land Management

[BLM_OR_FRN_MO4500169318]

Public Meetings for the John Day-Snake Resource Advisory Council, Oregon

AGENCY: Bureau of Land Management, Interior.

ACTION: Notice of public meeting.

SUMMARY: In accordance with the Federal Land Policy and Management Act of 1976 and the Federal Advisory Committee Act of 1972, the U.S. Department of the Interior, Bureau of Land Management's (BLM), John Day-Snake Resource Advisory Council (RAC) and the Planning Subcommittee will meet as indicated below.

DATES: The John Day-Snake RAC Planning Subcommittee will meet from 6 p.m. to 8 p.m. Pacific Daylight Time (PDT) Wednesday, May 10, 2023; and the full John Day-Snake RAC will meet Thursday, June 22, from 8 a.m. to 4:30 p.m. and reconvene Friday, June 23 at 8 a.m. and conclude at noon. The Subcommittee meeting will be held virtually via the Zoom for Government platform. The full John Day-Snake RAC meeting will be held in-person in Baker City, Oregon, at the BLM Baker Field Office and a virtual participation option will be available. A 30-minute public comment period will be offered at 7:20 p.m. PDT Wednesday, May 10; at 4 p.m. PDT Thursday, June 22; and at 11:30 a.m. PDT Friday, June 23.

ADDRESSES: The BLM Baker Field Office is located at 3100 H Street, Baker, OR 97814.

Final agendas for each meeting and contact information regarding Zoom meeting details will be published on the RAC web page at least 10 days in advance at https://www.blm.gov/get-involved/resource-advisory-council/near-you/oregon-washington/john-day-rac.

FOR FURTHER INFORMATION CONTACT: Kaitlyn Webb, Public Affairs Officer, 3050 N 3rd Street, Prineville, OR 97754; telephone: 541-416-6700; email: kwebb@blm.gov. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: The 15-member RAC was chartered and appointed by the Secretary of the Interior. Its diverse perspectives are represented in commodity, conservation, and general interests. The RAC provides advice to the BLM and, as needed, to U.S. Forest Service resource managers regarding management plans and proposed resource actions on public lands in the John Day-Snake area. All meetings are open to the public in their entirety. Information to be distributed to the RAC must be provided to its members prior to the start of each meeting.

Standing agenda items include management of energy and minerals, timber, rangeland and grazing, commercial and dispersed recreation, wildland fire and fuels, and wild horses and burros; review of recommendations regarding proposed actions by Vale or Prineville BLM districts and the Wallowa-Whitman, Umatilla, Malheur, Ochoco, and Deschutes National Forests; and any other business that may reasonably come before the RAC. A final agenda will be posted online at https://www.blm.gov/get-involved/resource-advisory-council/near-you/oregon-washington/john-day-rac at least 10 days prior to the meeting.

The Designated Federal Officer will attend the meeting, take minutes, and publish the minutes on the RAC web page at https://www.blm.gov/get-involved/resource-advisory-council/near-you/oregon-washington/john-day-rac.

All calls/meetings are open to the public in their entirety. The public may send written comments to the Subcommittee and RAC in response to material presented to: BLM Prineville District; Attn. Amanda Roberts; 3050 NE 3rd St., Prineville, OR 97754.

Before including your address, phone number, email address, or other personal identifying information in your comments, please be aware that your entire comment—including your personal identifying information—may be made publicly available at any time. While you can ask us in your comment to withhold your personal identifying information from public review, we cannot guarantee we will be able to do so.

Meeting Accessibility/Special Accommodations: Please make requests in advance for sign language interpreter services, assistive listening devices, or other reasonable accommodations. We ask that you contact the person listed in the (see FOR FURTHER INFORMATION CONTACT) section of this notice at least 7 business days prior to the meeting to give the Department of the Interior sufficient time to process your request. All reasonable accommodation requests are managed on a case-by-case basis.

(Authority: 43 CFR 1784.4-2)

Amanda Roberts,
Prineville District Manager.

[FR Doc. 2023-06950 Filed 4-3-23; 8:45 am]

BILLING CODE 4331-24-P